DEPARTMENT OF COMMERCE

National Oceanic and Atmospheric Administration

50 CFR Part 660

[Docket No. 180702602-9400-01]

[RTID 0648 -XW022]

Fisheries Off West Coast States; Modifications of the West Coast Recreational and Commercial Salmon Fisheries; Inseason Actions #1 through #5

AGENCY: National Marine Fisheries Service (NMFS), National Oceanic and Atmospheric Administration (NOAA), Commerce.

ACTION: Modification of fishing seasons.

SUMMARY: NMFS announces five inseason actions in the ocean salmon fisheries. These inseason actions modified the commercial and recreational salmon fisheries in the area from Cape Falcon, OR, to the U.S./Mexico border.

DATES: The effective dates for the inseason actions are set out in this document under the heading Inseason Actions.

FOR FURTHER INFORMATION CONTACT: Christina Iverson at 360-753-6038 or Peggy Mundy at 206-526-4323.

SUPPLEMENTARY INFORMATION:

Background

In the 2019 annual management measures for ocean salmon fisheries (84 FR 19729, May 6, 2019), NMFS announced management measures for the commercial and recreational fisheries in the area from Cape Falcon, OR, to the U.S./Mexico border, effective from 0001 hours Pacific Daylight Time (PDT), May 6, 2019, until the effective date of the 2020 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions). The state management agencies that participated in the consultations described in this document were: California Department of Fish and Wildlife (CDFW) and Oregon Department of Fish and Wildlife (ODFW).

Inseason Actions

Inseason Action #1

Description of the action: Inseason action #1 postponed the starting date for commercial salmon fisheries in the area from Cape Falcon, OR, to Humbug Mountain, OR, and in the area from Humbug Mountain, OR, to the Oregon/California border, previously scheduled to open on March 15, 2020, to April 15, 2020.

Effective dates: Inseason action #1 took effect on March 15, 2020, and remains in effect until modified by further inseason action or superseded by the 2020 annual management measures.

Reason and authorization for the action: The purpose of inseason action #1 was to limit fishery impacts on Klamath River fall-run Chinook salmon (KRFC) which have a low abundance forecast in 2020. This stock was determined by NMFS in 2018 to be overfished and is being managed in 2020 under the Council's recommended rebuilding plan, which NMFS has proposed to approve (85 FR 6135, February 4, 2020). The NMFS West Coast Regional Administrator (RA) considered Chinook salmon forecasts and anticipated fishery impacts for 2020 and determined that this inseason action was necessary to meet management and conservation objectives. Inseason modification of fishing seasons is authorized by 50 CFR 660.409(b)(1)(i).

Consultation date and participants: Consultation on inseason action #1 occurred on March 8, 2020. Representatives from NMFS, ODFW, CDFW, and the Council participated in this consultation.

Inseason Action #2

Description of the action: Inseason action #2 canceled the commercial salmon fishery from Horse Mountain, CA, to Point Arena, CA, that was previously scheduled to be open April 16, 2020 through April 30, 2020.

Effective dates: Inseason action #2 will take effect April 16, 2020, and remains in effect unless modified by further inseason action or superseded by the 2020 annual management measures.

Reason and authorization for the action: The purpose of inseason action #2 was to limit fishery impacts on KRFC, as described above in inseason action #1. The RA considered Chinook salmon forecasts and anticipated fishery impacts for 2020 and determined that this inseason action was necessary to meet management and conservation objectives. Inseason modification of fishing seasons is authorized by 50 CFR 660.409(b)(1)(i).

Consultation date and participants: Consultation on inseason action #2 occurred on March 8, 2020. Representatives from NMFS, ODFW, CDFW, and the Council participated in this consultation.

Inseason Action #3

Description of the action: Inseason action #3 postponed the starting date for recreational salmon fisheries in the area from Horse Mountain, CA, to Point Arena, CA, and in the area from Point Arena, CA, to Pigeon Point, CA, previously scheduled to open on April 4, 2020, to April 11, 2020.

Effective dates: Inseason action #3 took effect on April 4, 2020, and remains in effect until modified by further inseason action or superseded by the 2020 annual management.

Reason and authorization for the action: The purpose of inseason action #3 was to limit fishery impacts on KRFC, as described above in inseason action #1. The RA considered Chinook salmon forecasts and anticipated fishery impacts for 2020 and determined that this inseason action was necessary to meet management and conservation objectives. Inseason modification of fishing seasons is authorized by 50 CFR 660.409(b)(1)(i).

Consultation date and participants: Consultation on inseason action #3 occurred on March 8, 2020. Representatives from NMFS, ODFW, CDFW, and the Council participated in this consultation.

Inseason Action #4

Description of the action: Inseason action #4 closed the recreational salmon fisheries from Horse Mountain, CA, to the U.S./Mexico border, previously scheduled to open in April 2020.

Effective dates: Inseason action #4 took effect on April 1, 2020, and remains in effect until April 30, 2020, unless modified by further inseason action or superseded by the 2020 annual management.

Reason and authorization for the action: Inseason action #4 was recommended by CDFW in response to restrictions enacted by the State of California and various local jurisdictions to address public health concerns. These restrictions include a statewide mandate for all individuals living in the State of California to stay home or at their place of residence, except as needed to maintain continuity of operation of essential critical infrastructure (State of California Executive Order N-33-20) and the concurrent closure of boat launches and marinas. CDFW recommended that closing these recreational fisheries in April would allow the impacts to be utilized in other time and area fisheries later in the year. The RA considered actions by the State of California and local jurisdictions which restricted access to the fishery by the public and determined that this inseason action was consistent with promoting public health and safety and that re-allocating fishery impacts to later in the season under the 2020 salmon management measures would be consistent with the need to meet fishery management objectives. Inseason modification of fishing seasons is authorized by 50 CFR 660.409(b)(1)(i).

Inseason Action #5

Description of the action: Inseason action #5 postponed the commercial salmon fisheries from Cape Falcon, OR, to Humbug Mountain, OR, and from Humbug Mountain, OR, to the Oregon/California border, previously scheduled to open April 15, 2020, to open April 20, 2020, through May 5, 2020.

Effective dates: Inseason action #5 took effect on April 15, 2020, and remains in effect unless modified by further inseason action or superseded by the 2020 annual management.

Reason and authorization for the action: Inseason action #5 was recommended to limit fishery impacts on KRFC, as described above in inseason action #1. The RA considered Chinook salmon forecasts and anticipated fishery impacts for 2020 and determined that this inseason action was necessary to meet management and conservation objectives. Inseason modification of fishing seasons is authorized by 50 CFR 660.409(b)(1)(i).

Consultation date and participants: Consultation on inseason action #5 occurred on April 8, 2020. Representatives from NMFS, ODFW, CDFW, and the Council participated in this consultation.

All other restrictions and regulations remain in effect as announced for the 2019 ocean salmon fisheries and 2020 salmon fisheries opening prior to May 6, 2020 (84 FR 19729, May 6, 2019), and as modified by prior inseason actions.

The RA determined that the above inseason actions recommended by the states of Oregon and California were warranted and based on the best available information, as represented by the 2020 Chinook salmon abundance forecasts and expected fishery effort in 2020, and supported concerns regarding public health and safety, as described above. The states manage the fisheries in state waters adjacent to the areas of the U.S. exclusive economic zone consistent with these Federal actions. As provided by the inseason notice procedures of 50 CFR 660.411, actual notice of the described regulatory action was given, prior to the time the action was effective, by telephone hotline numbers 206-526-6667 and 800-662-9825, and by U.S. Coast Guard Notice to Mariners broadcasts on Channel 16 VHF-FM and 2182 kHz.

Classification

NOAA's Assistant Administrator (AA) for NMFS finds that good cause exists for this notification to be issued without affording prior notice and opportunity for public comment under 5 U.S.C. 553(b)(B) because such notification would be impracticable. As previously noted, actual notice of the regulatory action was provided to fishers through telephone hotline and radio notification. This action complies with the requirements of the annual management measures for ocean salmon fisheries (84 FR 19729, May 6, 2019), the Pacific Coast Salmon Fishery Management Plan (FMP), and regulations implementing the FMP under 50 CFR 660.409 and 660.411. Prior notice and opportunity for public comment was impracticable because NMFS had insufficient time to provide for prior notice and the opportunity for public comment between the time Chinook salmon catch and effort projections and abundance forecasts were developed and fisheries impacts were calculated, and the time the fishery modifications had to be implemented to ensure that conservation objectives and limits for impacts to salmon species listed under the ESA are not exceeded. The AA also finds good cause to waive the 30-day delay in effectiveness required under 5 U.S.C. 553(d)(3), as a delay in effectiveness of this action would allow fishing at levels inconsistent with the goals of the FMP and the current management measures.

This action is authorized by 50 CFR 660.409 and 660.411 and is exempt from review under Executive Order 12866.

Authority: 16 U.S.C. 1801 et seq.

Dated: May 6, 2020.
Hélène M.N. Scalliet,
Acting Director, Office of Sustainable Fisheries, National Marine Fisheries Service.

[FR Doc. 2020-10029 Filed 5-8-20; 8:45 am]

BILLING CODE 3510-22-P